DEPARTMENT OF AGRICULTURE

Office of the Secretary

Notice of Solicitation for Membership to the National Agricultural Research, Extension, Education, and Economics Advisory Board

AGENCY: Research, Education, and Economics, USDA.

ACTION: Solicitation for membership.

SUMMARY: In accordance with the Federal Advisory Committee Act, 5 U.S.C. app., the United States Department of Agriculture announces the appointments to the 10 vacancies on the National Agricultural Research, Extension, Education, and Economics Advisory Board.

DATES: Appointments are for a 3-year term, effective from October 1, 2000, until September 30, 2003 (pending reauthorization of the Advisory Board beyond September 30, 2002, Pub. L. 104-127, Sec. 802).

SUPPLEMENTARY INFORMATION: Section 802 of the Federal Agricultural Improvement and Reform Act of 1996 (The Farm Bill) authorized the creation of the National Agricultural Research, Extension, Education, and Economics Advisory Board. The Board is composed of 30 members, each representing a specific category related to farming or ranching, food production and processing, forestry research, crop and animal science, land-grant institutions, food retailing and marketing, rural economic development, and natural resource and consumer interest groups, among many others. The Board was first appointed in September 1996 and one-third of the 30 members were appointed for a 1, 2, and 3-year term, respectively.

As a result of the staggered appointments, the terms for 10 of the 30 members who represent 10 specific categories expired September 30, 2000. The Secretary of Agriculture made 3-year appointments for all 10 of the vacant categories. Appointees by category of the 10 new members are as follows: Representing Category A, National Farm Organization, Ronald R. Warfield, President of the Illinois Farm Bureau and Director of the American Farm Bureau Federation Executive Committee, was reappointed to a second term, Bloomington, Illinois; Category C. Food Animal Commodity Producer, Patricia Blum, beef rancher for 40 years and past President of South Dakota Beef Industry Council, Reliance, South Dakota; Category F. National Crop Commodity Organization, Marc S. Curtis, National and State President of the American Soybean Association, and farmer of rice, wheat, corn and soybeans, Leland, Mississippi; Category K. National Human Health Association, Judith S. Stern, Professor, Department of Internal Medicine, Division of Endocrinology, Clinical Nutrition and Vascular Medicine, University of California-Davis, California; Category P. Hispanic-Serving Institutions, John Cordova, President, South Mountain Community College, Maricopa Community College System, Phoenix, Arizona; Category Q. American Colleges of Veterinary Medicine, Oscar J. Fletcher, Dean, College of Veterinary Medicine and Professor of Farm Animal Health and Resource Management, North Carolina State University, Raleigh, North Carolina; Category S. Transportation of Food and Agricultural Products to Domestic and Foreign Markets, Emma Jean Cervantes, President of Cervantes Enterprises/Agribusiness, 35-year producer of chile peppers, cotton, alfalfa, vegetables, and pecans, La Mesa, New Mexico, previously appointed to a 1-year term and was reappointed to a full term; Category U. Food and Fiber Processors, John Rogers Farquharson, President of the International Food Safety Council, and Executive Emeritus, ARAMARK Corporation, Sewell, New Jersey, was reappointed to a second term; Category Z. Private Sector Organization involved in International Development, Shirley Dunlap Bowser, a diversified family farmer, engaged in the international dimension of agriculture, and Chair of W.K. Kellogg Foundation Board, Williamsport, Ohio; and Category CC. National Social Science Association, Jean Clarkson-Frisbie, Pratt County Extension Agent, Family and Consumer Sciences & R-H and Youth, Cooperative Extension Service, Kansas State University, Pratt, Kansas. Appointees term will begin on October 1, 2000 and end September 30, 2003 (pending reauthorization of the Advisory Board beyond September 30, 2002). They will actively participate in their first meeting October 16-18, 2000, beginning at 9 a.m. October 16-17 and from 8 a.m.-12 noon October 18, at the Loew's L'Enfant Plaza Hotel, Ballroom A, Section A, 480 L'Enfant Plaza, SW., Washington, DC.

FOR FURTHER INFORMATION CONTACT: Deborah Hanfman, Executive Director, National Agricultural Research, Extension, Education, and Economics Advisory Board, Research, Education, and Economics Advisory Board Office, Room 344A, Jamie L. Whitten Building, U.S. Department of Agriculture, STOP: 2255, 1400 Independence Avenue, SW., Washington, DC 20250-2255. Telephone: 202-720-3684. Fax: 202-720-6199, or e-mail: lshea@reeusda.gov.

Eileen Kennedy,
Deputy Under Secretary, Research, Education, and Economics.

[FR Doc. 00-26650 Filed 10-16-00; 8:45 am]

BILLING CODE 3410-22-P